DEPARTMENT OF TRANSPORTATION

Federal Aviation Administration

Notice of Submission Deadline for Schedule Information for O'Hare International, John F. Kennedy International, and Newark Liberty International Airport for the Summer 2009 Scheduling Season

AGENCY: Department of Transportation, Federal Aviation Administration (FAA).

ACTION: Notice of submission deadline.

SUMMARY: Under this notice, the FAA announces that Chicago's O'Hare International Airport (ORD) has been designated a Level 2 Schedules Facilitated Airport for the Summer 2009 scheduling season in accordance with the International Air Transport Association (IATA) Worldwide Scheduling Guidelines. Accordingly, the FAA announces October 9, 2008, as the deadline for submitting schedule information for all planned flights at ORD between the hours of 7 a.m. and 9 p.m. Central time, or 1200 and 0200 UTC.

The FAA also announces October 9, 2008, as the deadline for submitting schedule information for John F. Kennedy International Airport (JFK) and Newark Liberty International Airport (EWR) for the Summer 2009 scheduling season. The FAA previously designated these airports as Level 3 Coordinated Airports under the IATA Worldwide Scheduling Guidelines. The FAA requests schedule information for all planned flights at JFK and EWR between the hours of 6 a.m. and 11 p.m. Eastern time, or 1000 UTC and 0300 UTC. The FAA deadline coincides with the submission deadline established by IATA for the Summer 2009 Schedules Conference.

The U.S. summer scheduling season is from March 29, 2009, through October 24, 2009, in recognition of the IATA scheduling dates. The FAA understands there may be differences in schedule times due to the U.S. daylight savings time dates, and these will be accommodated to the extent possible.

SUPPLEMENTARY INFORMATION: On October 31, 2008, the provisions of Title 14 of the Code of Federal Regulations, Part 93, Subpart B—Congestion and Delay Reduction at Chicago O'Hare International Airport terminate. This subpart prescribed rules and procedures for the scheduled operations and the assignment, transfer, sale, lease, and withdrawal of Arrival Authorizations at ORD. These rules sunset in recognition of the planned opening of a new runway at the airport shortly after the rule expires. The FAA finds it unnecessary to continue those requirements for scheduled operations because the new runway results in increased capacity. As the airport adjusts to this new capacity and as the O'Hare Modernization Plan continues, the FAA concludes that the Level 2 designation is necessary to facilitate the scheduling of operations so that the airport does not suffer from periods of overscheduling.

Although there appears to be sufficient capacity at ORD to meet demand in the near term, excessive demand in peak hours could cause delays. A Level 2 designation allows some schedule review to mitigate delays. The FAA intends to focus its review primarily on arrival operations similar to the process under the current rule. Carriers should submit schedule information in sufficient detail including, at minimum, the operating carrier, flight number, scheduled time of operation, frequency, and effective dates. IATA standard schedule information format and data elements also may be used because many carriers use automated systems to develop and publish schedule information.

DATES: Schedules must be submitted no later than October 9, 2008.

ADDRESSES: Schedules may be submitted by mail to the Slot Administration Office, AGC-240, Office of the Chief Counsel, 800 Independence Ave., SW., Washington, DC 20591; facsimile: 202-267-7277; ARINC: DCAYAXD; or by e-mail to: 7-AWA-slotadmin@faa.gov.

FOR FURTHER INFORMATION CONTACT: Robert Hawks, Regulations Division, Office of the Chief Counsel, Federal Aviation Administration, 800 Independence Avenue, SW., Washington, DC 20591; telephone number: 202-267-7143; fax number: 202-267-7971; e-mail: rob.hawks@faa.gov.

Issued in Washington, DC on September 16, 2008.
James W. Whitlow,
Deputy Chief Counsel.

[FR Doc. E8-22073 Filed 9-19-08; 8:45 am]

BILLING CODE 4910-13-P